DEPARTMENT OF ENERGY

Environmental Management Site-Specific Advisory Board Chairs

AGENCY: Office of Environmental Management, Department of Energy.

ACTION: Notice of open meeting.

SUMMARY: This notice announces a virtual meeting of the Environmental Management Site-Specific Advisory Board (EM SSAB). The Federal Advisory Committee Act requires that public notice of this meeting be announced in the Federal Register.

DATES: Wednesday, April 23, 2025; 10:30 a.m.-5 p.m. EDT.

ADDRESSES: To attend virtually, please contact nssab@emcbc.doe.gov or phone (702) 523-0894, no later than 3 p.m. EDT on Monday, April 21, 2025.

FOR FURTHER INFORMATION CONTACT: Kelly Snyder, EM SSAB Designated Federal Officer, by phone: (702) 918-6715 or email: kelly.snyder@em.doe.gov or visit the Board's website at www.energy.gov/emssab.

SUPPLEMENTARY INFORMATION:

Purpose of the Board: The purpose of the Board is to provide advice and recommendations to the DOE EM Program concerning such things as clean-up activities, environmental restoration; waste and nuclear materials management and disposition; excess facilities; future land use and long-term stewardship. The Board also provides an avenue to fulfill public participation requirements outlined in the National Environmental Policy Act (NEPA), the Comprehensive Environmental Response, Compensation, and Liability Act (CERLA), the Resource Conservation and Recovery Act (RCRA), Federal Facility Agreements, Consent Orders, Consent Decrees and Settlement Agreements.

Tentative Agenda

1. EM Program Updates.

2. EM SSAB Chairs Round Robin.

3. Board Business.

Public Participation: The virtual meeting is open to the public via Microsoft Teams. Written public comment may be filed with the EM SSAB Designated Federal Officer at kelly.snyder@em.doe.gov either before or after the meeting. Written comments received before 1 p.m. EDT on Monday, April 21, 2025, will be provided to the board members prior to the meeting. Written comments will be accepted after the meeting until Friday, April 25, 2025. Individuals who wish to make oral comments during the meeting can do so in 2-minute segments for the 15 minutes allotted for public comments.

Meeting conduct: The Designated Federal Officer is empowered to conduct the meeting in a fashion that will facilitate the orderly conduct of business. Questioning of board members or presenters by the public is not permitted.

Minutes: Minutes will be available on the EM SSAB website at www.energy.gov/emssab.

Signing Authority: This document of the Department of Energy was signed on March 12, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 12, 2025.
Jennifer Hartzell,
Alternate Federal Register Liaison Officer, U.S. Department of Energy.

[FR Doc. 2025-04294 Filed 3-14-25; 8:45 am]

BILLING CODE 6450-01-P